DEPARTMENT OF AGRICULTURE

Food Safety and Inspection Service

9 CFR Parts 317 and 381

[Docket No. FSIS-2010-0031]

RIN 0583-AD

Uniform Compliance Date for Food Labeling Regulations

AGENCY: Food Safety and Inspection Service, USDA.

ACTION: Final rule.

SUMMARY: The Food Safety and Inspection Service (FSIS) is establishing January 1, 2014, as the uniform compliance date for new meat and poultry product labeling regulations that are issued between January 1, 2011, and December 31, 2012. FSIS periodically announces uniform compliance dates for new meat and poultry product labeling regulations to minimize the economic impact of label changes.

DATES: This rule is effective November 23, 2010. Comments on this final rule must be received on or before December 23, 2010.

ADDRESSES: FSIS invites interested persons to submit comments on this final rule. Comments may be submitted by either of the following methods:

• Federal eRulemaking Portal: This Web site provides the ability to type short comments directly into the comment field on this Web page or attach a file for lengthier comments. Go to http://www.regulations.gov. Follow the online instructions at that site for submitting comments.

• Mail, including floppy disks or CD-ROMs, and hand- or courier-delivered items: Send to Docket Clerk, USDA, FSIS, Room 2-2127, George Washington Carver Center, 5601 Sunnyside Avenue, Mailstop 5272, Beltsville, MD 20705.

Instructions: All items submitted by mail or electronic mail must include the Agency name and docket number FSIS-2010-0031. Comments received in response to this docket will be made available for public inspection and posted without change, including any personal information, to http://www.regulations.gov.

Docket: For access to background documents or comments received, go to the FSIS Docket Room at the address listed above between 8 a.m. and 4:30 p.m., Monday through Friday.

FOR FURTHER INFORMATION CONTACT: Rosalyn Murphy-Jenkins, Food Safety and Inspection Service, USDA, Room 2-2125, George Washington Carver Center, Beltsville, MD 20705 (telephone: 301-504-0879; fax: 301-504-0872).

SUPPLEMENTARY INFORMATION:

Background

FSIS periodically issues regulations that require changes in the labeling of meat and poultry food products. Many meat and poultry establishments also produce non-meat and non-poultry food products subject to the jurisdiction of the Food and Drug Administration (FDA), and FDA periodically issues regulations that require changes in the labeling of such products.

On December 14, 2004, FSIS issued a final rule that provided that the Agency will set uniform compliance dates for new meat and poultry product labeling regulations in 2-year increments and will periodically issue final rules announcing those dates. The final rule also established January 1, 2008, as the uniform compliance date for meat and poultry product labeling regulations that were issued between January 1, 2005, and December 31, 2006 (69 FR 74405). Consistent with the 2004 final rule, FSIS subsequently issued final rules on March 5, 2007, and December 18, 2008, that established uniform compliance dates of January 1, 2010, and January 1, 2012, for meat and poultry product labeling regulations issued between January 1, 2007, and December 31, 2008, and January 1, 2009, and December 31, 2010, respectively (72 FR 9651) (73 FR 75564).

The Final Rule

This final rule establishes January 1, 2014, as the uniform compliance date for new meat and poultry product labeling regulations that are issued between January 1, 2011, and December 31, 2012, and is consistent with the previous final rules establishing uniform compliance dates.

FSIS's approach for establishing uniform compliance dates for new food labeling regulations is consistent with FDA's approach in this regard. FDA is also establishing January 1, 2014, as the uniform compliance date for new food labeling regulations that are issued between January 1, 2011, and December 31, 2012.

A uniform compliance date of January 1, 2014, for all food product labeling regulations issued between January 1, 2011, and December 31, 2012, will ensure that changes take effect on a timely basis and will minimize the economic impact of those changes on the industry because companies will not have to respond separately to each labeling change as it occurs (69 FR 74406). This policy also serves consumers' interests because the cost of the multiple short-term label revisions that would otherwise occur would likely be passed on to consumers in the form of higher prices.

It will remain FSIS's policy, however, to encourage industry to comply with new labeling regulations as quickly as feasible. Thus, when industry members voluntarily change their labels, they should consider incorporating any new requirements that have been published as final regulations up to that time.

The new uniform compliance date will apply only to final FSIS regulations that require changes in the labeling of meat and poultry products and that are published after January 1, 2011, and before December 31, 2012. In each of these regulations, FSIS will specifically identify January 1, 2014, as the compliance date. All meat and poultry food products that are subject to labeling regulations promulgated between January 1, 2011, and December 31, 2012, will be required to comply with these regulations when introduced into commerce on or after January 1, 2014. If any food labeling regulation involves special circumstances that justify a compliance date other than January 1, 2014, the Agency will determine for that regulation an appropriate compliance date, which will be specified when the final regulation is published.

The Agency received only four comments in response to the May 4, 2004, proposed rule that solicited comments on the concept of establishing uniform compliance dates for labeling requirements (69 FR 74406), all of which were fully supportive of the policy to set uniform compliance dates. Therefore, in the March 5, 2007, final rule, FSIS determined that further rulemaking for the establishment of uniform compliance dates for labeling requirements is unnecessary (72 FR 9651). In response to the December 12, 2008, final rule, which established January 1, 2012, as the uniform compliance date for meat and poultry labeling regulations issued between January 1, 2009, and December 31, 2010 (73 FR 75564), FSIS received only one comment. This comment concerned the listing of all ingredients and preservatives in food and was outside the scope of the final rule. Therefore, consistent with its statement in 2007, FSIS finds at this time that further rulemaking on this matter is unnecessary. However, FSIS is providing an opportunity for comment on whether the uniform compliance date established in this final rule should be modified or revoked.

Executive Order 12988

This final rule has been reviewed under Executive Order 12988, Civil Justice Reform. Under this final rule: (1) All state and local laws and regulations that are inconsistent with this rule will be preempted; (2) no retroactive effect will be given to this rule; and (3) no retroactive proceedings will be required before parties may file suit in court challenging this rule.

Executive Order 12866

FSIS has examined the impacts of the final rule under Executive Order 12866, which directs agencies to assess costs and benefits of available regulatory alternatives and, when regulation is necessary, to select regulatory approaches that maximize net benefits (including potential economic, environmental, public health and safety, and other advantages; distributive impacts; and equity). This action has been determined to be not significant and, therefore, has not been reviewed by the Office of Management and Budget.

Establishing a uniform compliance date for all future Federal food product labeling regulations affecting the meat and poultry industry that are issued by FSIS over a 2-year period will eliminate potentially burdensome requirements otherwise faced by the industry.

The regulation also greatly limits the possibility of potentially conflicting compliance dates for labeling requirements developed for meat and poultry products and labeling requirements developed for non-meat and non-poultry products. It thus provides for an orderly industry adjustment to any new labeling requirements. Labeling changes in response to Federal regulations will likely be less frequent, and establishments will be able to plan for full utilization of their labeling stocks.

Need for the Rule

Establishing uniform compliance dates for food labeling regulations issued within specified time periods minimizes the economic impact of label changes for industry and may indirectly benefit consumers if cost savings are passed on in the form of lower prices.

Regulatory Flexibility Analysis

This rule does not have a significant economic impact on a substantial number of small entities. Consequently, an initial regulatory flexibility analysis is not required (5 U.S.C. 601-612). The uniform compliance date does not impose any burden on small entities. The Agency will conduct regulatory flexibility analyses of future labeling regulations if such analyses are required.

Paperwork Requirements

There are no paperwork or recordkeeping requirements associated with this policy under the Paperwork Reduction Act of 1995 (44 U.S.C. 3501-3520).

E-Government Act Compliance

FSIS and USDA are committed to achieving the purposes of the E-Government Act (44 U.S.C. 3601, et seq.) by, among other things, promoting use of the Internet and other information technologies and providing increased opportunities for citizen access to Government information and services, and for other purposes.

Executive Order 13175

This final rule has been reviewed in accordance with the requirements of Executive Order 13175, Consultation and Coordination with Indian Tribal Governments. The review reveals that this regulation will not have substantial and direct effects on Tribal governments and will not have significant Tribal implications.

USDA Nondiscrimination Statement

The U.S. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that minorities, women, and persons with disabilities are aware of this final rule, FSIS will announce it on-line through the FSIS Web page located at http://www.fsis.usda.gov/regulations_&_policies/2010_Interim_&_Final_Rules_Index/index.asp.

FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is available on the FSIS Web page. Through the Listserv and the Web page, FSIS is able to provide information to a much broader and more diverse audience.

In addition, FSIS offers an e-mail subscription service that provides automatic and customized access to selected food safety news and information. This service is available at http://www.fsis.usda.gov/news_and_events/email_subscription/.

Options range from recalls to export information to regulations, directives, and notices. Customers can add or delete subscriptions themselves and have the option to password protect their accounts.

Done at Washington, DC, on November 16, 2010.
Alfred V. Almanza,
Administrator.

[FR Doc. 2010-29492 Filed 11-22-10; 8:45 am]

BILLING CODE 3410-DM-P